DEPARTMENT OF AGRICULTURE

Agricultural Marketing Service

7 CFR Part 1150

[Docket No. DA-06-04]

National Dairy Promotion and Research Program; Section 610 Review

AGENCY: Agricultural Marketing Service, USDA.

ACTION: Notice of regulatory review and request for comments.

SUMMARY: This notice announces the Agricultural Marketing Service's (AMS) review of the National Dairy Promotion and Research Program (conducted under the Dairy Promotion and Research Order), using the criteria contained in Section 610 of the Regulatory Flexibility Act (RFA).

DATES: Written comments on this notice must be received by May 1, 2006.

ADDRESSES: Interested persons are invited to submit written comments concerning this notice of review to Whitney A. Rick, Chief, Promotion and Research Branch, USDA/AMS/Dairy Programs, STOP 0233—Room 2958-S, 1400 Independence Avenue, SW., Washington, DC 20250-0233. You may send your comments by using the electronic process available at the Federal Rulemaking portal at http://www.regulations.gov. All comments, which should reference the docket number and the date and page number of this issue of the Federal Register, will be made available for public inspection at the location provided above during regular business hours.

FOR FURTHER INFORMATION CONTACT: Whitney A. Rick, USDA/AMS/Dairy Programs, Promotion and Research Branch, Stop 0233—Room 2958-S, 1400 Independence Avenue, SW., Washington, DC 20250-0233, (202) 720-6909, Whitney.Rick@usda.gov.

SUPPLEMENTARY INFORMATION: The Dairy Production Stabilization Act of 1983 (Act) (7 U.S.C. Section 4501, et seq.) authorized a national dairy producer program designed to develop and finance promotion, research, and nutrition education programs to maintain and expand markets and uses for milk and dairy products in the contiguous 48 States. The program is conducted under the Dairy Promotion and Research Order (7 CFR part 1150).

The program became effective on May 1, 1984, when the Order was issued. The National Dairy Promotion and Research Program is funded by a mandatory assessment of 15 cents per hundredweight on all milk produced in the 48 contiguous states and marketed commercially. Producers can receive a credit of up to 10 cents a hundredweight for payments made to any State or regional dairy product promotion, research or nutrition education programs which are certified as qualified programs pursuant to the Order.

The Order provides for the establishment of the National Dairy Promotion and Research Board (Dairy Board) that is composed of 36 members appointed by the Secretary of Agriculture. Each member represents 1 of 13 Regions in the 48 contiguous States. The members of the Dairy Board serve 3-year terms and are eligible to be appointed to 2 consecutive terms.

AMS published in the Federal Register its plan (64 FR 8014, February 18, 1999), and later its updated plan (68 FR 48574, August 14, 2003), to review certain regulations using criteria contained in Section 610 of the RFA (5 U.S.C. 601-612). Given that many AMS regulations impact small entities, AMS decided as a matter of policy to review certain regulations which, although they may not meet the threshold requirement under Section 610 of the RFA, warrant review. Accordingly, this notice and request for comments is made for the National Dairy Promotion and Research Program (conducted under the Dairy Promotion and Research Order).

The purpose of the review is to determine whether the Order should be continued without change, amended, or rescinded (consistent with the objectives of the Act) to minimize any significant economic impact of rules upon a substantial number of small entities. AMS will consider the continued need for the Order; the nature of complaints or comments received from the public concerning the Order; the complexity of the Order; the extent to which the Order overlaps, duplicates, or conflicts with other Federal rules and, to the extent feasible, with State and local government rules; and the length of time since the Order has been evaluated or the degree to which technology, economic conditions, or other factors have changed in the area affected by the Order.

Written comments, views, opinions, and other information regarding the Order's impact on small businesses are invited.

Dated: February 23, 2006.
Lloyd C. Day,
Administrator, Agricultural Marketing Service.

[FR Doc. 06-1854 Filed 2-27-06; 8:45 am]

BILLING CODE 3410-02-P